DEPARTMENT OF TRANSPORTATION

Research and Special Programs Administration

49 CFR Parts 171, 172, and 173

[Docket No. RSPA-99-6283 (HM-230)]

RIN 2137-AD40

Hazardous Materials Regulations; Compatibility With the Regulations of the International Atomic Energy Agency; Correction; Final Rule

AGENCY: Research and Special Programs Administration (RSPA), DOT.

ACTION: Final rule.

SUMMARY: RSPA is correcting errors in its final rule in this docket, published in the Federal Register on January 26, 2004, that amended requirements in the Hazardous Materials Regulations (HMR) pertaining to the transportation of radioactive materials based on changes contained in the International Atomic Energy Agency (IAEA) publication, entitled “IAEA Safety Standards Series: Regulations for the Safe Transport of Radioactive Material,” 1996 Edition, No. TS-R-1.

DATES: Effective Date: This final rule is effective on October 1, 2004.

FOR FURTHER INFORMATION CONTACT: Dr. Fred D. Ferate II, Office of Hazardous Materials Technology, (202) 366-4545, or Charles E. Betts, Office of Hazardous Materials Standards, (202) 366-8553; Research and Special Programs Administration, U.S. Department of Transportation, 400 Seventh Street, SW., Washington, DC 20590-0001.

SUPPLEMENTARY INFORMATION:

I. Background

On January 26, 2004, the Research and Special Programs Administration (RSPA, we) published a final rule under Docket HM-230 (69 FR 3632) amending requirements in the HMR pertaining to the transportation of radioactive materials based on changes contained in the IAEA publication entitled “IAEA Safety Standards Series: Regulations for the Safe Transport of Radioactive Material,” 1996 Edition, No. TS-R-1. Specifically, the final rule:

• Adopted the nuclide-specific exemption activity concentrations and the nuclide-specific exemption consignment activities listed in TS-R-1 to assure continued consistency between domestic and international regulations for the basic definition of radioactive material;

• Provided an exception in the HMR that certain naturally occurring radioactive materials would not be subject to the requirements of the HMR so long as their specific activities do not exceed 10 times the activity concentration exemption values;

• Incorporated the TS-R-1 changes in the A1 and A2 values into the HMR;

• Adopted the new proper shipping names and UN identification numbers, except for those referring to Type C packages, for fissile LSA material and for fissile SCOs;

• Required, if customary units are used, that the appropriate quantity and customary units be placed within parentheses positioned after the original quantity expressed in the International System of Units (SI units);

• Adopted the use of the Criticality Safety Index (CSI) to refer to what was formerly the criticality control transport index, and to restrict the use of the concept of transport index (TI) to a number derived purely from the maximum radiation level at one meter from the package;

• Required that the new fissile label be placed on each fissile material package, and that the CSI for that package be noted on the fissile label;

• Adopted the requirement that excepted packages must be marked with the UN identification number, that industrial packagings be marked with the package type, and that Type IP-2 and IP-3 industrial packages and Type A packages be marked with the international vehicle registration code of the country of origin of packaging design;

• Removed former requirements which became redundant upon adoption of the new proper shipping names, such as the requirement that the shipping description contain the words “Radioactive Material” unless those words are included in the proper shipping name;

• Removed plutonium-238 from the definition of fissile material. Removed the reference to Pu-238 in the list of fissile radionuclides for which the weight in grams or kilograms may be listed instead of or in addition to the activity, in the shipping paper or radioactive label description of the radioactive contents of a package;

• Adopted a definition of contamination, and included an authority to transport unpackaged LSA material and SCO, and an authority to use qualified tank containers, freight containers and metal intermediate bulk containers as industrial packagings, types 2 and 3 (IP-2 and IP-3);

• Adopted a new class of LSA-I material, consisting of radioactive material in which the activity is distributed throughout and the estimated average specific activity does not exceed 30 times the activity concentration exemption level, and removed the present category referring to mill tailings, contaminated earth, concrete, rubble, other debris, and activated material that is essentially uniformly distributed, with specific activity not exceeding 10−⁶ A2/g.

• Incorporated the TS-R-1 changes for packagings containing more than 0.1 kg of uranium hexafluoride (UF6);

• Required UF6 packagings to meet the pressure, drop and thermal test requirements, prohibited the use of pressure relief devices, and require that packagings be certified in accordance with TS-R-1 requirements;

• Removed the definition of “fissile material controlled shipment;” revised § 173.453 to reflect the NRC “fissile material exemption provisions,” and revised §§ 173.457 and 173.459 to remove the references to “fissile material, controlled shipment” and to base requirements for non-exclusive use and exclusive use shipments of fissile material packages on TS-R-1 package and conveyance CSI limits;

• Accepted the IAEA transitional requirements and begin the phase-out of packages satisfying the 1967 IAEA requirements, including DOT specification packages;

• Prohibited the manufacture of all Type B specification packages conforming to Safety Series No. 6 (1967) as of the effective date of this rule; the use of these packages would be allowed for four years after the effective date of this rule; and

• Added a requirement that the active material in an instrument or article intended to be transported in an excepted package be completely enclosed by the non-active components.

This document corrects editorial and technical errors which have come to our attention following publication of the rule.

II. Section-by-Section Review

Part 171

Section 171.7

In paragraph (a)(3), in the “Table of material incorporated by reference,” we are correcting the table heading to read “49 CFR reference.”

Section 171.11

In the January 26, 2004 final rule, the shipping paper requirements for highway route controlled quantities of radioactive material were moved from § 172.203(d)(4) to § 172.203(d)(10); however, the reference in § 171.11(d)(6)(i) was not changed. Therefore, we are correcting § 171.11(d)(6)(i) by replacing the reference to § 172.203(d)(4)” with “§ 172.203(d)(10).” Additionally, we are correcting § 171.11(d)(6)(iv) to remove the reference to § 173.428, because this was not intended nor proposed in the notice of proposed rulemaking (NPRM).

Part 172

Section 172.101 Hazardous Materials Table (HMT).

The HMT is corrected as follows:

—For the entry “Radioactive material, excepted package-instruments or articles” the applicable packaging authorizations are added to column 8C of the HMT.

—The entry “Radioactive material, surface contaminated objects (SCO-I or SCO-II) non fissile or fissile-excepted” is corrected to italicize the words “non fissile or fissile-excepted.”

—For the entry “Radioactive material, transported under special arrangement, fissile” in column 4 of the HMT, “UN331” is corrected to read “UN3331.”

—The entry “Radioactive material, Type A package, fissile non-specdial form” is corrected to read “Radioactive material, Type A package, fissile non-special form.”

Section 172.203

In paragraphs (d)(1) and (d)(5), a typographical error is corrected.

Section 172.403

An incorrect section reference is corrected in paragraph (g)(1) and paragraph (h)(4) is corrected to indicate that the category of Class 7 label for an overpack is to be determined from the table in § 172.403(c) using the transport index (TI) derived according to § 172.403(h)(3).

Part 173

Section 173.403

In § 173.403, in the definitions for “Low Specific Activity (LSA) material” and “Radiation level,” several typographical errors are corrected.

Section 173.411

Section 173.411 is corrected to add language authorizing the use of certain tank containers, freight containers, and metal intermediate bulk containers as IP-2 or IP-3 containers. Although proposed in the NPRM, this language was inadvertently omitted in the final rule.

Section 173.415

Paragraph (d) is corrected to clarify that any foreign-manufactured Type A package meeting the standards in the “IAEA Regulations for the Safe Transport of Radioactive Material No. TS-R-1,” and bearing the marking “Type A,” may be used for domestic and export shipments of Class 7 (radioactive) materials provided the offeror obtains and maintains the applicable test, documentation and engineering evaluations.

Section 173.417

In paragraph (a)(2), typographical errors are corrected in “Table 2—Allowable Content of Uranium Hexafluoride (UF6 “Heels” in a Specification 7A Cylinder).”

Section 173.420

Paragraph (a)(2)(ii) is corrected by inserting the word “or” immediately after the semi-colon.

Section 173.427

Section 173.427 is corrected as follows:

—In paragraph (a), a duplicative phrase “, unless excepted by paragraph (d) of this section,” is removed.

—In paragraph (b)(3), a reference to “Type B” is removed.

—Paragraph (b)(4) is corrected to specify that for domestic transportation, an exclusive use shipment of LSA material and SCO may not exceed an A2 quantity when in a packaging which meets the requirements of §§ 173.24, 173.24a, and 173.410. This language was omitted in the final rule.

—In paragraph (e), Table 6 is reformatted to dispel the appearance that the SCO entries are a subset of LSA-III.

Section 173.433

In paragraph (d)(6), the left side of the equation is corrected to read “Exempt activity concentration limit for mixture.”

Section 173.435

In the “Table of A1 and A2 values for radionuclides”, several typographical errors are corrected. In addition, in the January 26, 2004 final rule, the Curie values in the A1/A2 table were rounded to two significant figures. As a result, the Curie values, when converted back to Terabequerels, are sometimes higher and sometimes lower than the original values, by as much as 3.6%. Since, some individuals are inputting the Curie values into their computer programs, and this would result in some A1 and A2 values being higher than the authorized amounts a footnote “b” is added to the A1/A2 table to clarify that the Curie values are for information only and the Terabecquerel values are the regulatory standard. The Curie values in the A1/A2 table will be corrected in a future rulemaking.

Section 173.443

In paragraph (a), we are correcting an incorrect reference to “Table 11” to read “Table 9”.

III. Regulatory Analyses and Notices

A. Executive Order 12866 and DOT Regulatory Policies and Procedures

This final rule is not a significant action under section 3(f) of Executive Order 12866 and was not reviewed by the Office of Management and Budget. This final rule is not a significant action under the Regulatory Policies and Procedures of the Department of Transportation. The revisions adopted in this final rule do not alter the cost-benefit analysis and conclusions contained in the Regulatory Evaluation prepared for the January 26, 2004 final rule. The regulatory Evaluation is available for review in the public docket for this rulemaking.

B. Executive Order 13132

This final rule has been analyzed in accordance with the principles and criteria contained in Executive Order 13132 (“Federalism”). This final rule preempts State, local and Indian tribe requirements, but does not propose any regulation that has direct effects on the States, the relationship between the national government and the States, or the distribution of power and responsibilities among the various levels of government. Therefore, the consultation and funding requirements of Executive Order 13132 do not apply.

The Federal hazardous material transportation law, 49 U.S.C. 5101-5127, contains an express preemption provision (49 U.S.C. 5125(b)) that preempts State, local, and Indian tribe requirements on certain covered subjects. Covered subjects are:

(1) The designation, description, and classification of hazardous material;

(2) The packing, repacking, handling, labeling, marking, and placarding of hazardous material;

(3) The preparation, execution, and use of shipping documents related to hazardous material and requirements related to the number, contents, and placement of those documents;

(4) The written notification, recording, and reporting of the unintentional release in transportation of hazardous material; or

(5) The design, manufacturing, fabricating, marking, maintenance, reconditioning, repairing, or testing of a packaging or container represented, marked, certified, or sold as qualified for use in transporting hazardous material.

This final rule addresses the classification, packaging, marking, labeling, and handling of hazardous material, among other covered subjects and preempts any State, local, or Indian tribe requirements not meeting the “substantively the same” standard. This rule is necessary to incorporate changes already adopted in international standards. If the amendments adopted in this final rule were not made, U.S. companies, including numerous small entities competing in foreign markets, will be at an economic disadvantage. These companies would be forced to comply with a dual system of regulation. The amendments are intended to avoid this result.

Federal hazardous materials transportation law provides at 49 U.S.C. 5125(b)(2) that, if the Secretary of Transportation issues a regulation concerning any of the covered subjects, the Secretary must determine and publish in the Federal Register the effective date of Federal preemption. The effective date may not be earlier than the 90th day following the date of issuance of the final rule and not later than two years after the date of issuance. The effective date of our January 26, 2004 final rule, including the effective date of Federal preemption is October 1, 2004. Because this final rule makes editorial corrections, the effective date of Federal preemption of this final rule is also October 1, 2004.

C. Executive Order 13175

This final rule has been analyzed in accordance with the principles and criteria contained in Executive Order 13175 (“Consultation and Coordination with Indian Tribal Governments”). Because this final rule does not have tribal implications, does not impose substantial direct compliance costs on Indian tribal governments, and does not preempt tribal law, the funding and consultation requirements of Executive Order 13175 do not apply and a tribal summary impact statement is not required.

D. Regulatory Flexibility Act, Executive Order 13272, and DOT Procedures and Polices

The Regulatory Flexibility Act (5 U.S.C. 601 et seq.) requires an agency to review regulations to assess their impact on small entities unless the agency determines a rule is not expected to have a significant economic impact on a substantial number of small entities. The corrections contained in this final rule will have little or no effect on the regulated industry. Based on the assessment in the regulatory evaluation, to the January 26, 2004 final rule, I hereby certify that, while this rule applies to a substantial number of small entities, there will not be a significant economic impact on those small entities. A detailed Regulatory Flexibility analysis is available for review in the docket.

This final rule has been developed in accordance with Executive Order 13272 (“Proper Consideration of Small Entities in Agency Rulemaking”) and DOT's procedures and policies to promote compliance with the Regulatory Flexibility Act to ensure that potential impacts of draft rules on small entities are properly considered.

E. Paperwork Reduction Act

This final rule imposes no new information collection requirements.

F. Regulation Identifier Number (RIN)

A regulation identifier number (RIN) is assigned to each regulatory action listed in the Unified Agenda of Federal Regulations. The Regulatory Information Service Center publishes the Unified Agenda in April and October of each year. The RIN number contained in the heading of this document can be used to cross-reference this action with the Unified Agenda.

G. Unfunded Mandates Reform Act

This final rule does not impose unfunded mandates under the Unfunded Mandates Reform Act of 1995. It does not result in costs of $120.7 million or more to either State, local, or tribal governments, in the aggregate, or to the private sector, and is the least burdensome alternative that achieves the objectives of the rule.

H. Environmental Assessment

The National Environmental Policy Act of 1969 (NEPA), as amended (42 U.S.C. 4321-4347), requires Federal agencies to consider the consequences of major Federal actions and prepare a detailed statement on actions significantly affecting the quality of the human environment. The Nuclear Regulatory Commission (NRC) prepared an environmental assessment (EA) of Major Revision to Packaging and Transportation of Radioactive Material Regulations”, Final Report, March 2002, on its proposed rule which addresses issues also raised in this rulemaking. On the basis of this EA, we find that there are no significant environmental impacts associated with this final rule. A copy of the environmental assessment prepared by the NRC is available for review in the docket.

I. Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

List of Subjects

49 CFR Part 171

Exports, Hazardous materials transportation, Hazardous waste, Imports, Incorporation by reference, Reporting and recordkeeping requirements.

49 CFR Part 172

Education, Hazardous materials transportation, Hazardous waste, Labeling, Markings, Packagings and containers, Reporting and recordkeeping requirements.

49 CFR Part 173

Hazardous materials transportation, packaging and containers, Radioactive materials, Reporting and recordkeeping requirements, Uranium.

In consideration of the foregoing, we are making the following corrections to FR Doc. 04-67, appearing on page 3632 in the Federal Register of Monday, January 26, 2004:

PART 171—[CORRECTED]

1. On page 3665, in § 171.7, in paragraph (a)(2), in the Table of material incorporated by reference, correct the table heading entry “9 CFR reference” to read “49 CFR reference”.

2. On page 3665, in § 171.11, correct paragraph (d)(6) to read as follows:

§ 171.11 Use of ICAO Technical Instructions.

* * * * *

(d) * * *

(6) For radioactive materials:

(i) Shipping papers for highway route controlled quantity radioactive materials shipments must meet the requirements of § 173.203(d)(10) of this subchapter.

(ii) Competent authority certification and any necessary revalidation for Type B, Type B(U), Type B(M), and fissile materials packages must be obtained from the appropriate authorities as specified in §§ 173.471, 173.472 and 173.473 of this subchapter, and all requirements of the certificates and revalidations must be met.

(iii) Except for limited quantities of Class 7 (radioactive) material, the provisions of §§ 172.204(c)(4), 173.448(e), (f) and (g)(3) of this subchapter apply.

(iv) Excepted packages of radioactive material, instruments or articles, or articles containing natural uranium or thorium, must meet the provisions of § 173.421, 173.424, or 173.426 of this subchapter, as appropriate.

(v) Type A package contents shall be limited in accordance with § 173.431 of this subchapter.

(vi) The definition for “radioactive material” in § 173.403 of this subchapter applies to radioactive materials transported under the provisions of this section.

* * * * *

PART 172—[CORRECTED]

3. On page 3666, in the Hazardous Materials Table, correct the following entries to read as follows:

§ 172.101 Purpose and use of hazardous materials table.

* * * * *

a. For the entry Radioactive material, excepted package—instruments or articles”, the entries “422, 424” are added in column 8C.

b. The entry “Radioactive material, surface contaminated objects (SCO-I or SCO-II) non fissile or fissile-excepted” in column 2 is removed, and the entry “Radioactive material, surface contaminated objects (SCO-I or SCO-II) non fissile or fissile-excepted” is added in its place.

c. For the entry “Radioactive material, transported under special arrangement, fissile” in column 4, the entry “UN331” is corrected to read “UN3331”.

d. The entry “Radioactive material, Type A package, fissile non-specdial form” in column 2 is removed, and the entry “Radioactive material, Type A package, fissile non-special form” is added in its place.

4. On page 3668, in the first column, correct paragraphs (d)(1) and (d)(5) of § 172.203 to read as follows:

§ 172.203 Additional description requirements.

* * * * *

(d) * * *

(1) The name of each radionuclide in the Class 7 (radioactive) material that is listed in § 173.435 of this subchapter. For mixtures of radionuclides, the radionulides that must be shown must be determined in accordance with § 173.433(g) of this subchapter. Abbreviations, e.g., “⁹⁹Mo,” are authorized.

* * * * *

(5) The transport index assigned to each package in the shipment bearing RADIOACTIVE YELLOW-II or RADIOACTIVE YELLOW-III labels.

* * * * *

5. On page 3669, in the second and third columns, correct paragraphs (g)(1) and (h)(4) of § 172.403 to read as follows:

§ 172.403 Class 7 (radioactive) materials.

* * * * *

(g) * * *

(1) Contents. Except for LSA-1 material, the names of the radionuclides as taken from the listing of radionuclides in § 173.435 of this subchapter (symbols which conform to established radiation protection terminology are authorized, i.e., ⁹⁹Mo, ⁶⁰Co, etc.). For mixtures of radionuclides, with consideration of space available on the label, the radionuclides that must be shown must be determined in accordance with § 173.433(g) of this subchapter. For LSA-I material, the term “LSA-I” may be used in place of the names of the radionuclides.

* * * * *

(h) * * *

(4) The category of Class 7 label for the overpack must be determined from the table in § 172.403(c) using the TI derived according to paragraph (h)(3) of this section, and the maximum radiation level on the surface of the overpack.

* * * * *

PART 173—[CORRECTED]

6. On pages 3671 and 3672, in § 173.403, correct the definitions for “Low Specific Activity (LSA) material” and “Radiation level” to read as follows:

§ 173.403 Definitions.

* * * * *

Low Specific Activity (LSA) material means Class 7 (radioactive) material with limited specific activity which satisfies the descriptions and limits set forth below. Shielding materials may not be considered in determining the estimated average specific activity of the package contents. LSA material must be in one of three groups:

(1) LSA-I:

(i) Uranium and thorium ores, concentrates of uranium and thorium ores, and other ores containing naturally occurring radionuclides which are intended to be processed for the use of these radionuclides; or

(ii) Solid unirradiated natural uranium or depleted uranium or natural thorium or their solid or liquid compounds or mixtures; or

(iii) Radioactive material other than fissile material, for which A2 value is unlimited; or

(iv) Other radioactive material, excluding fissile material in quantities not excepted under § 173.453, in which the activity is distributed throughout and the estimated average specific activity does not exceed 30 times the values for activity concentration specified in § 173.436, or 30 times the default values listed in Table 8 of § 173.433.

(2) LSA-II:

(i) Water with tritium concentration up to 0.8 TBq/L (20.0 Ci/L); or

(ii) Other radioactive material in which the activity is distributed throughout and the average specific activity does not exceed 10⁻⁴ A2/g for solids and gases, and 10⁻⁵ A2/g for liquids.

(3) LSA-III. Solids (e.g., consolidated wastes, activated materials), excluding powders, that meet the requirements of § 173.468 and in which:

(i) The radioactive material is distributed in a solid compact binding agent (such as concrete, bitumen, ceramic, etc.):

(ii) The radioactive material is a relatively insoluble material, so that, even under loss of packaging, the loss of Class 7 (radioactive) material per package by leaching when placed in water for seven days would not exceed 0.1 A2; and

(iii) The estimated average specific activity of the solid, excluding any shielding material, does not exceed 2 × 10⁻³ A2/g.

* * * * *

Radiation level means the radiation dose-equivalent rate expressed in millisieverts per hour or mSv/h (millirems per hour or mrem/h). Neutron flux densities may be converted into radiation levels according to Table 1:

Table 1.—Neutron Fluence Rates to be Regarded as Equivalent to a Radiation Level of 0.01 mSv/h (1mrem/h) ¹
Energy of neutron | Flux density equivalent to 0.01 mSv/h (1 mrem/h) neutrons per square centimeter per second (n/cm ²/s)
Thermal (2.510E-8) MeV | 272.0
1 keV | 272.0
10 keV | 281.0
100 keV | 47.0
500 keV | 11.0
1 MeV | 7.5
5 MeV | 6.4
10 MeV | 6.7
¹Flux densities equivalent for energies between those listed in this table may be obtained by linear interpolation.

* * * * *

7. On page 3673, in the second column, in § 173.411, paragraph (b) is corrected to read as follows:

§ 173.411 Industrial packagings.

* * * * *

(b) Industrial packaging certification and tests. (1) Each IP-1 must meet the general design requirements prescribed in § 173.410.

(2) Each IP-2 must meet the general design requirements prescribed in § 173.410 and when subjected to the tests specified in § 173.465(c) and (d) or evaluated against these tests by any of the methods authorized by § 173.461(a), must prevent:

(i) Loss or dispersal of the radioactive contents; and

(ii) A loss of shielding integrity which result in more than a 20% increase in the radiation level at any external surface of the package.

(3) Each IP-3 packaging must meet the requirements for an IP-1 and an IP-2, and must meet the requirements specified in § 173.412(a) through (j).

(4) Tank containers may be used as Industrial package Types 2 or 3 (Type IP-2 or Type IP-3) provided that:

(i) They satisfy the requirements for Type IP-1 specified in paragraph (b)(1);

(ii) They are designed to conform to the standards prescribed in Chapter 6.7, of the United Nations Recommendations on the Transport of Dangerous Goods, (IBR, see § 171.7 of this subchapter), “Requirements for the Design, Construction, Inspection and Testing of Portable Tanks and Multiple-Element Gas Containers (MEGCs),” or other requirements at least equivalent to those standards;

(iii) They are capable of withstanding a test pressure of 265 kPa (37.1 psig); and

(iv) They are designed so that any additional shielding which is provided shall be capable of withstanding the static and dynamic stresses resulting from handling and routine conditions of transport and of preventing a loss of shielding integrity which would result in more than a 20% increase in the radiation level at any external surface of the tank containers.

(5) Tanks, other than tank containers, including DOT Specification IM 101 or IM 102 steel portable tanks (§§ 178.270, 178.271, 178.272 of this subchapter), may be used as Industrial package Types 2 or 3 (Type IP-2) or (Type IP-3) for transporting LSA-I and LSA-II liquids and gases as prescribed in Table 6, provided that they conform to standards at least equivalent to those prescribed in paragraph (b)(4).

(6) Freight containers may be used as Industrial packages Types 2 or 3 (Type IP-2) or (Type IP-3) provided that:

(i) The radioactive contents are restricted to solid materials;

(ii) They satisfy the requirements for Type IP-1 specified in paragraph (b)(1); and

(iii) They are designed to conform to the standards prescribed in the International Organization for Standardization document ISO 1496-1: “Series 1 Freight Containers—Specifications and Testing—Part 1: General Cargo Containers; excluding dimensions and ratings (IBR, see § 171.7 of this subchapter). They shall be designed such that if subjected to the tests prescribed in that document and the accelerations occurring during routine conditions of transport they would prevent:

(A) Loss or dispersal of the radioactive contents; and

(B) Loss of shielding integrity which would result in more than a 20% increase in the radiation level at any external surface of the freight containers.

(7) Metal intermediate bulk containers may also be used as Industrial package Type 2 or 3 (Type IP-2 or Type IP-3), provided that:

(i) They satisfy the requirements for Type IP-1 specified in paragraph (b)(1); and

(ii) They are designed to conform to the standards prescribed in Chapter 6.5 of the United Nations Recommendations on the Transport of Dangerous Goods, (IBR, see § 171.7 of this subchapter), “Requirements for the Construction and Testing of Intermediate Bulk Containers,” for Packing Group I or II, and if they were subjected to the tests prescribed in that document, but with the drop test conducted in the most damaging orientation, they would prevent:

(A) Loss or dispersal of the radioactive contents; and

(B) Loss of shielding integrity which would result in more than a 20% increase in the radiation level at any external surface of the intermediate bulk containers.

* * * * *

8. On page 3673, in the third column, correct paragraph (d) of § 173.415 to read as follows:

§ 173.415 Authorized Type A packages.

* * * * *

(d) Any foreign-made packaging that meets the standards in “IAEA Regulations for the Safe Transport of Radioactive Material No. TS-R-1” (IBR, see § 171.7 of this subchapter) and bears the marking “Type A”. Such packagings may be used for domestic and export shipments of Class 7 (radioactive) materials provided the offeror obtains the applicable documentation of tests and engineering evaluations and maintains the documentation on file in accordance with paragraph (a) of this section. These packagings must conform with requirements of the country of origin (as indicated by the packaging marking) and the IAEA regulations applicable to Type A packagings.

9. On page 3674, correct paragraph (a)(2) introductory text of § 173.417 to read as follows:

§ 173.417 Authorized fissile materials packages.

(a) * * *

(2) A residual “heel” of enriched solid uranium hexafluoride may be transported without a protective overpack in any metal cylinder that meets both the requirements of § 173.415 and § 178.350 of this subchapter for Specification 7A Type A packaging, and the requirements of § 173.420 for packagings containing greater than 0.1 kg of uranium hexafluoride. Any such shipment must be made in accordance with Table 2, as follows:

* * * * *

Table 2.—Allowable Content of Uranium Hexafluoride (UF6 “Heel” in a Specification 7A Cylinder)
Maximum cylinder diameter: Centimeters | Maximum cylinder diameter: Inches | Cylinder volume: Liters | Cylinder volume: Cubic feet | Maximum Uranium 235-enrichment (weight) percent | Maximum “Heel” weight per cylinder: UF6: kg | Maximum “Heel” weight per cylinder: UF6: lb | Maximum “Heel” weight per cylinder: Uranium-235: kg | Maximum “Heel” weight per cylinder: Uranium-235: lb
12.7 | 5 | 8.8 | 0.311 | 100.0 | 0.045 | 0.1 | 0.031 | 0.07
20.3 | 8 | 39.0 | 1.359 | 12.5 | 0.227 | 0.5 | 0.019 | 0.04
30.5 | 12 | 68.0 | 2.410 | 5.0 | 0.454 | 1.0 | 0.015 | 0.03
76.0 | 30 | 725.0 | 25.64 | 5.0 | 11.3 | 25.0 | 0.383 | 0.84
122.0 | 48 | 3,084.0 | ¹ 108.9 | 4.5 | 22.7 | 50.0 | 0.690 | 1.52
122.0 | 48 | 4,041.0 | ² 142.7 | 4.5 | 22.7 | 50.0 | 0.690 | 1.52
¹ 10 ton.
² 14 ton

* * * * *

10. On page 3675, in the first column, correct paragraph (a)(2)(ii) of § 173.420 to read as follows:

§ 173.420 Uranium hexafluoride (fissile, fissile excepted and non-fissile).

(a) * * *

(2) * * *

(ii) Specifications for Class DOT-106A multi-unit tank car tanks (see §§ 179.300 and 179.301 of this subchapter); or

* * * * *

11. On pages 3676 and 3677, correct paragraphs (a), (b)(3), (b)(4) and (e) to read as follows:

§ 173.427 Transport requirements for low specific activity (LSA) Class 7 (radioactive) materials and surface contaminated objects (SCO).

(a) In addition to other applicable requirements specified in this subchapter, LSA materials and SCO, unless excepted by paragraph (c) or (d) of this section, must be packaged in accordance with paragraph (b) of this section and must be transported in accordance with the following conditions:

* * * * *

(b) * * *

(3) In any Type B(U) or B(M) packaging authorized pursuant to § 173.416;

(4) In a packaging which meets the requirements of §§ 173.24, 173.24a, and 173.410, but only for domestic transportation of an exclusive use shipment that does not exceed an A2 quantity.

* * * * *

(e) Tables 5 and 6 are as follows:

Table 5.—Conveyance Activity Limits for LSA Material and SCO
Nature of material | Activity limit for conveyances
1. LSA-I | No limit.
2. LSA-II and LSA-III; Non-combustible solids | No limit.
3. LSA-II and LSA-III; Combustible solids and all liquids and gases | 100 A2
4. SCO | 100 A2

Table 6.—Industrial Package Integrity Requirements for LSA Material and SCO
Contents | Industrial packaging type: Exclusive use shipment | Industrial packaging type: Non exclusive use shipment
1. LSA-I:
Solid | IP-1 | IP-1
Liquid | IP-1 | IP-2
2. LSA-II:
Solid | IP-2 | IP-2
Liquid and gas | IP-2 | IP-3
3. LSA-III | IP-2 | IP-3
4. SCO-I | IP-1 | IP-1
5. SCO-II | IP-2 | IP-2

12. On page 3678, correct paragraph (d)(6) of § 173.433 to read as follows:

§ 173.433 Requirements for determining basic radionuclide values, and for the listing of radionuclides on shipping papers and labels.

* * * * *

(d) * * *

(6) The exempt activity concentration for mixtures of nuclides may be determined as follows:

Where:

f(i) is the fraction of activity concentration of nuclide i in the mixture; and [A](i) is the activity concentration for exempt material containing nuclide i.

* * * * *

13. In § 173.435, the Table of A1 and A2 values is corrected by adding a footnote “b” to the table headings of columns 4 and 6 and correcting pages 3679, 3680 and 3683, in the Table of A1 and A2 values for radionuclides to read as follows:

§ 173.435 Table of A1 and A2 values for radionuclides.

Symbol of radionuclide | Element and atomic number | A1 (TBq) | A1 (Ci) ᵇ | A2 (TBq) | A2 (Ci) ᵇ | Specific activity: (Tbq/g) | Specific activity: (Ci/g)
* * * * * * *
Bi-205 | Bismuth (83) | 7.0 × 10−¹ | 1.9 × 10¹ | 7.0 × 10−¹ | 1.9 × 10¹ | 1.5 × 10³ | 4.2 × 10⁴
* * * * * * *
Cm-248 |  | 2.0 × 10−² | 5.4 × 10−¹ | 3.0 × 10−⁴ | 8.1 × 10−³ | 1.6 × 10−⁴ | 4.2 × 10−³
| * * * * * * *
Eu-150 (long lived) |  | 7.0 × 10−¹ | 1.9 × 10¹ | 7.0 × 10−¹ | 1.9 × 10¹ | 6.1 × 10⁴ | 1.6 × 10⁶
* * * * * * *
Te-132 (a) |  | 5.0 × 10−¹ | 1.4 × 10¹ | 4.0 × 10−¹ | 1.1 × 10¹ | 1.1 × 10⁴ | 3.0 × 10⁵
* * * * * * *
* * * * * * *
ᵇ The values of A1 and A2 in curies (Ci) are approximate and for information only; the regulatory standard units are Terabecquerels (TBq), (see § 171.10).

* * * * *

14. On page 3691, in the first column, in § 173.443, paragraph (a) introductory text is corrected to read as follows:

§ 173.443 Contamination control.

(a) The level of non-fixed (removable) radioactive contamination on the external surfaces of each package offered for transport must be kept as low as reasonable achievable. The level of non-fixed radioactive contamination may not exceed the limits set forth in Table 9 and must be determined by either:

* * * * *

Issued in Washington, DC, on September 1, 2004, under authority Delegated in 49 CFR Part 1.
Samuel G. Bonasso,
Deputy Administrator, Research and Special Programs Administration.

[FR Doc. 04-20549 Filed 9-10-04; 8:45 am]

BILLING CODE 4910-60-P